DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The SDN List and additional information concerning OFAC sanctions programs are available on OFAC's website (www.treas.gov/ofac).

Notice of OFAC Actions

On August 12, 2020, OFAC determined that the property and interests in property subject to U.S. jurisdiction of the following persons are blocked under the relevant sanctions authorities listed below.

Entities

1. PARTHIA CARGO LLC, 1 AK 01, Jebel Ali South Zone, Jebel Ali Free Zone, Dubai, United Arab Emirates; Office 203, Bur Dubai, Souk Al Kabeer, Dubai, United Arab Emirates; P.O. Box: 33393, Dubai, United Arab Emirates; P.O. Box: 44439, Dubai, United Arab Emirates; website www.parthiacargo.com; Additional Sanctions Information—Subject to Secondary Sanctions; Chamber of Commerce Number 56868 (United Arab Emirates); Registration Number 515161 (United Arab Emirates) [SDGT] [IFSR] (Linked To: MAHAN AIR; Linked To: MAHDAVI, Amin).

Designated pursuant to section 1(a)(iii)(C) of Executive Order 13224 of September 23, 2001, “Blocking Property and Prohibiting Transactions With Persons Who Commit, Threaten To Commit, or Support Terrorism,” 66 FR 49079, 3 CFR, 2002 Comp., p. 786, (E.O. 13224), as amended by Executive Order 13886 of September 9, 2019, “Modernizing Sanctions to Combat Terrorism,” 84 FR 48041, (E.O. 13224, as amended), for having materially assisted, sponsored, or provided financial, material, or technological support for, or goods or services to or in support of, MAHAN AIR, a person whose property and interests in property are blocked pursuant to E.O. 13224, as amended.

2. DELTA PARTS SUPPLY FZC (a.k.a. DELTA PARTS SUPPLY), Q1-04-048/A Saif Zone, P.O. Box 124119, Sharjah, United Arab Emirates; Saif Zone, Sharjah, United Arab Emirates; Additional Sanctions Information—Subject to Secondary Sanctions [SDGT] [IFSR] (Linked To: MAHAN AIR).

Designated pursuant to section 1(a)(iii)(C) of E.O. 13224, as amended, for having materially assisted, sponsored, or provided financial, material, or technological support for, or goods or services to or in support of, MAHAN AIR, a person whose property and interests in property are blocked pursuant to E.O. 13224, as amended.

Individual

1. MAHDAVI, Amin, Number 1304 Bahar2 JBR, Dubai 44439, United Arab Emirates; DOB 12 Feb 1967; POB Mashad, Iran; citizen Iran; Additional Sanctions Information—Subject to Secondary Sanctions; Gender Male (individual) [SDGT] [IFSR].

Designated pursuant to section 1(a)(iii)(B) of E.O. 13224, as amended, for owning or controlling, directly or indirectly, PARTHIA CARGO LLC, a person whose property and interests in property are blocked pursuant to E.O. 13224, as amended.

Dated: August 12, 2020.
Andrea M. Gacki,
Director, Office of Foreign Assets Control, U.S. Department of the Treasury.

[FR Doc. 2020-18527 Filed 8-21-20; 8:45 am]

BILLING CODE 4810-AL-P